DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to the Office of Management and Budget (OMB) under the Paperwork Reduction Act of 1995. To request more information on the proposed project or to obtain a copy of the data collection plans and draft instruments, email paperwork@hrsa.gov or call the HRSA Reports Clearance Officer at (301) 443-1984.

Comments are invited on: (a) The proposed collection of information for the proper performance of the functions of the Agency; (b) the accuracy of the Agency's estimate of the burden of the proposed collection of information; (c) ways to enhance the quality, utility, and clarity of the information to be collected; and (d) ways to minimize the burden of the collection of information on respondents, including through the use of automated collection techniques or other forms of information technology.

Proposed Project: Nursing Scholarship Program (OMB No. 0915-0301)—[Revision]

The Nursing Scholarship Program (NSP) is a competitive Federal program, which awards scholarships to individuals for attendance at accredited schools of nursing. The Bureau of Clinician Recruitment and Service (BCRS) in HRSA administers the program. The scholarship consists of payment of tuition, fees, other reasonable educational costs, and a monthly support stipend. In return, the students agree to provide a minimum of 2 years of full-time clinical service (or an equivalent part-time commitment, as approved by the NSP) at a health care facility with a critical shortage of nurses as defined by the program.

NSP recipients must be willing to (and are required to) fulfill their NSP service commitment at a health care facility with a critical shortage of nurses in the United States, which includes, in addition to the several States, only: the District of Columbia, Guam, the Commonwealth of Puerto Rico, the Northern Mariana Islands, the U.S. Virgin Islands, American Samoa, the Federated States of Micronesia, the Republic of the Marshall Islands, and the Republic of Palau. Students who are uncertain of their commitment to provide nursing care in a health care facility with a critical shortage of nurses in the United States or these territories are advised not to participate in this program.

The NSP needs to collect data to determine an applicant's eligibility for the program, to monitor a participant's continued enrollment in a school of nursing, to monitor the participant's compliance with the NSP service obligation, and to obtain data on its program to ensure compliance with statutory mandates and prepare annual reports to Congress. The following information will be collected: (1) From the applicants and/or the schools—general applicant and nursing school data such as full name, location, tuition/fees, and enrollment status; (2) from the schools, on an annual basis—data concerning tuition/fees and student enrollment status; and (3) from the participants and their health care facilities with a critical shortage of nurses, on a biannual basis—data concerning the participant's employment status, work schedule and leave usage. BCRS enters the cost information into its information data system, along with the projected amount for the monthly stipend, to determine the amount of each scholarship award.

The annual estimate of burden is as follows:

Instrument | Number of respondents | Responses per respondent | Total responses | Hours per response | Total burden hours
Application | 4,000 | 1 | 4,000 | 2 | 8,000
In-School Monitoring | 500 | 1 | 500 | 2 | 1,000
In-Service Monitoring | 600 | 2 | 1,200 | 1 | 1,200
Total | 5,100 |  | 5,700 |  | 10,200

Email comments to paperwork@hrsa.gov or mail the HRSA Reports Clearance Officer, Room 10-29, Parklawn Building, 5600 Fishers Lane, Rockville, MD 20857. Written comments should be received within 60 days of this notice.

Dated: March 30, 2012.
Reva Harris,
Acting Director, Division of Policy and Information Coordination.

[FR Doc. 2012-8147 Filed 4-4-12; 8:45 am]

BILLING CODE 4165-15-P